DEPARTMENT OF ENERGY

Federal Energy Regulatory Commission

Notice of Scoping Meetings and Soliciting Scoping Comments for an Applicant Prepared Environmental Assessment Using the Alternative Licensing Process

July 15, 2003.

a. Type of Application: New License for Major Project.

b. Project No.: 2216-058.

c. Applicant: New York Power Authority.

d. Project Name: Niagara Power Project.

e. Location: The existing project is located in Niagara County, New York, on the Niagara River, a 35-mile-long waterway that connects Lake Erie and Lake Ontario and is boundary water between the United States and Canada. There are no Federal lands within the project boundary.

f. Filed Pursuant to: Federal Power Act, 16 U.S.C. 791(a)-825(r).

g. Applicant Contact: Keith Silliman, Director, Niagara Relicensing, New York Power Authority, 30 South Pearl Street, Albany, New York 12207-3425, (518) 433-6735.

h. FERC Contact: Patti Leppert at (202) 502-6034, or patricia.leppert@ferc.gov.

i. Deadline for Filing Scoping Comments: October 14, 2003.

All comments and correspondence (original and eight copies) should be filed with: Magalie R. Salas, Secretary, Federal Energy Regulatory Commission, 888 First Street, NE., Washington, DC 20426. Correspondence should clearly show the following caption on the first page: Scoping Comments, Niagara Power Project, FERC No. 2216-058.

The Federal Energy Regulatory Commission's (Commission) Rules of Practice and Procedure require that a copy of all documents filed with the Commission be served on each person on the official service list for the project. Furthermore, if comments or documents filed with the Commission relate to the merits of an issue that may affect the responsibilities of a particular resource agency, a copy of the document also must be served on that resource agency.

Scoping comments may be filed electronically via the Internet in lieu of paper. The Commission strongly encourages electronic filings. See 18 CFR 385.2001(a)(1)(iii) and the instructions on the Commission's Web site ( http://www.ferc.gov ) under the “e-Filing” link.

j. The existing 2,538-megawatt project consists of: (1) Two 700-foot-long intake structures located on the upper Niagara River about 2.6 miles upstream from the American Falls; (2) two 4.3-mile-long concrete underground water supply conduits, each measuring 46 feet wide by 66.5 feet high; (3) a forebay; (4) the Lewiston Pump-Generating Plant, measuring 975 feet long by 240 feet wide by 160 feet high; (5) the 1,900-acre Lewiston reservoir at a maximum water surface elevation of 658 feet United States Lake Survey Datum; (6) the Robert Moses Niagara Power Plant, including an intake structure, measuring 1,100 feet long by 190 feet wide by 100 feet high; (7) a switch yard; and (8) appurtenant facilities.

k. Scoping Process: The New York Power Authority (Power Authority) is utilizing the Commission's Alternative Licensing Process (ALP). Under the ALP, the Power Authority will prepare an Applicant-Prepared Environmental Assessment (APEA) and license application for the Niagara Power Project. The Power Authority expects to file, with the Commission, the license application and APEA for the Niagara Power Project by August 31, 2005.

The Commission staff intends to prepare an Environmental Assessment (EA) on the project in accordance with the National Environmental Policy Act of 1969 (NEPA). The EA will consider both site-specific and cumulative environmental effects and reasonable alternatives to the proposed action. These scoping meetings will satisfy the scoping requirements, pursuant to NEPA, as amended.

The purpose of this notice is to inform you of the opportunity to participate in the scoping meetings, identified below.

i. Scoping Meetings: Information presented at the scoping meetings will: (1) Provide a brief overview of the Niagara Power Project; (2) provide a brief overview of the ALP for relicensing the project; (3) provide a discussion of the issues identified for analysis in the APEA and those not requiring analysis; and (4) solicit comments from the public on Scoping Document 1.

The staff from New York State Department of Environmental Conservation will provide an overview of the State's regulatory process and its role in the relicensing of the Niagara Power Project.

The Commission staff will conduct one agency scoping meeting and one public meeting. The agency scoping meeting will focus on resource agency, Indian Tribes, and non-governmental organizations concerns, while the public scoping meeting is primarily for public input. All interested agencies, Indian Tribes, organizations, and individuals are invited to attend one or both meetings, and assist the staff in identifying the scope of the environmental issues that should and should not be analyzed in the APEA. The location and times of these meetings are as follows:

Agency Scoping Meeting

Date: Wednesday, August 13, 2003.

Time: 2 p.m.

Address: Niagara Falls High School Amphitheater, 4455 Porter Road, Niagara Falls, New York.

Public Scoping Meeting

Date: Wednesday, August 13, 2003.

Time: 7 p.m.

Address: Same as agency scoping meeting.

To help focus the discussions, Scoping Document 1 will be issued in late July 2003, and will be on the Niagara Power Project's relicensing Web site at http://niagara.nypa.gov. Scoping Document 1 will also be available in the Public Information File, located at the Niagara Power Project Power Vista, and at the following public libraries: Lewiston Public Library; Niagara Falls Public Library; Lockport Public Library; Buffalo & Erie County Public Library; North Tonawanda Public Library; and Grand Island Public Library.

A copy of Scoping Document 1 will be available for review at the Commission in the Public Reference Room or may be viewed on the Commission's Web site at http://www.ferc.gov using the “FERRIS” link. Enter the docket number excluding the last three digits in the docket number field to access the document. For assistance, contact FERC Online Support at FERCOnlineSupport@ferc.gov, or toll-free at 1-866-208-3676, or for TTY (202) 502-8659.

You may also register online at http://www.ferc.gov.esubscribenow.htm to be notified via e-mail of new filings and issuances related to the Niagara Power Project or other pending projects. For assistance, contact FERC Online Support. ii. Meeting Procedures: The scoping meetings will be conducted according to the procedures used at Commission scoping meetings. The meetings will be recorded by a stenographer and will become a part of the formal record of the proceedings on the project.

Interested agencies, Indian Tribes, organizations, and individuals are invited and encouraged to attend and assist in identifying and clarifying the scope of issues that should and should not be analyzed in the APEA. Speaking time allowed for individuals will be determined before each meeting, based on the number of persons wishing to speak and the approximate amount of time available for the meeting. Persons choosing not to speak, but wishing to express an opinion, as well as speakers unable to summarize their positions within the allotted time, may submit written statements for inclusion in the public record.

Written scoping comments may also be mailed to Keith Silliman, Director, Niagara Relicensing, New York Power Authority, 30 South Pearl Street, Albany, New York 12207-3425, by October 14, 2003. For further information, please contact Keith Silliman of NYPA at (518) 433-6735; Patti Leppert of Commission staff, at (202) 502-6034; or Steve Kartalia of Commission staff, at (202) 502-6131.

Magalie R. Salas,
Secretary.

[FR Doc. 03-18404 Filed 7-18-03; 8:45 am]

BILLING CODE 6717-01-P